DEPARTMENT OF COMMERCE

International Trade Administration

(A-475-703)

Granular Polytetrafluoroethylene Resin from Italy; Notice of Extension of Time Limit for Preliminary Results of Antidumping Duty Administrative Review

AGENCY: Import Administration, International Trade Administration, Department of Commerce.

EFFECTIVE DATE: May 1, 2007.

FOR FURTHER INFORMATION CONTACT: Salim Bhabhrawala at (202) 482-1784, AD/CVD Operations, Office 1, Import Administration, International Trade Administration, U.S. Department of Commerce, 14th Street and Constitution Avenue, NW, Washington, DC 20230.

SUPPLEMENTARY INFORMATION:

Background

On September 29, 2006, the Department of Commerce (the Department) published a notice of initiation of administrative review of the antidumping duty order on granular polytetrafluoroethylene resin from Italy. See Initiation of Antidumping and Countervailing Duty Administrative Reviews, 71 FR 57465 (September 29, 2006). The period of review is August 1, 2005, through July 31, 2006, and the preliminary results are currently due no later than May 3, 2007. The review covers one producer/exporter of the subject merchandise.

Extension of Time Limit for Preliminary Results

Pursuant to section 751(a)(3)(A) of the Tariff Act of 1930, as amended (the Act), the Department shall make a preliminary determination in an administrative review of an antidumping order within 245 days after the last day of the anniversary month of the date of publication of the order. The Act further provides, however, that the Department may extend the 245-day period to 365 days if it determines it is not practicable to complete the review within the foregoing time period. We determine that it is not practicable to complete this administrative review within the time limits mandated by section 751(a)(3)(A) of the Act because this review involves a number of complicated issues (e.g., the calculation of general and administrative expenses and U.S. warehousing), which must be addressed prior to the issuance of the preliminary results. The Department requires additional time to analyze the respondent's questionnaire response and issue any necessary supplemental questionnaires.

Accordingly, the Department is extending, by 71 days, the time limit for completion of the preliminary results of this administrative review until no later than July 13, 2007. We intend to issue the final results no later than 120 days after the publication of the preliminary results notice.

This extension is in accordance with section 751(a)(3)(A) of the Act and 19 CFR 351.213(h)(2).

Dated: April 24, 2007.
Stephen J. Claeys,
Deputy Assistant Secretary for Import Administration.

[FR Doc. E7-8279 Filed 4-30-07; 8:45 am]

BILLING CODE: 3510-DS-S